DEPARTMENT OF ENERGY

Federal Energy Regulatory Commission

Notice of Attendance at PJM Meetings

June 2, 2009.

The Federal Energy Regulatory Commission hereby gives notice that members of the Commission and Commission staff may attend the following upcoming meetings of the PJM Interconnection LLC. All meetings are in Wilmington, DE unless noted otherwise:

Members Committee (MC)

• June 4, 2009.

• August 13, 2009.

• September 24, 2009 (BWI Airport).

Markets and Reliability Committee (MRC)

• June 17, 2009.

• July 30, 2009.

• September 23, 2009 (BWI Airport).

Market Implementation Committee (MIC)

• June 11, 2009.

• July 14, 2009.

• August 14, 2009.

• September 10, 2009.

Planning Committee (PC)

• June 9, 2009.

• July 15, 2009.

• August 12, 2009.

• September 16, 2009 (Norristown, PA).

Capacity Market Evolution Committee (CMEC)

• July 17, 2009.

• August 5, 2009.

• August 24, 2009.

Additional meeting information and schedules may be found at http://www.pjm.com/committees-and-groups.aspx.

The discussions at each of the meetings described above may address matters at issue in the following proceedings:

Docket No. ER05-1410, PJM Interconnection LLC.

Docket No. ER06-456 et al., PJM Interconnection LLC.

Docket No. ER08-194, Duquesne Light Co.

Docket No. ER08-386, Potomac-Appalachian Transmission Highline, LLC.

Docket No. ER08-686, Pepco Holdings, Inc.

Docket No. ER08-1370, Midwest Independent Transmission System Operator, Inc. and Duquesne Light Co.

Docket No. ER09-75, Pioneer Transmission LLC.

Docket No. ER09-369, PJM Interconnection LLC.

Docket No. ER09-412, PJM Interconnection LLC.

Docket No. ER09-497, et al., PJM Interconnection LLC.

Docket No. ER09-585, PJM Interconnection LLC.

Docket No. ER09-701, PJM Interconnection LLC.

Docket No. ER09-730, PJM Interconnection LLC.

Docket No. ER09-745, Baltimore Gas and Electric Company.

Docket No. ER09-940, Northern Virginia Electric Cooperative, Inc.

Docket No. ER09-996, PJM Interconnection LLC.

Docket No. ER09-1063, PJM Interconnection LLC.

Docket No. EL05-148, PJM Interconnection LLC.

Docket No. EL08-12, PJM Industrial Customer Coalition v PJM Interconnection LLC.

Docket No. EL08-44, PJM Interconnection LLC v Accord Energy, LLC et al.

Docket No. EL08-47, Maryland Public Service Commission v PJM Interconnection LLC.

Docket No. EL08-67, Maryland Public Service Commission et al. v PJM Interconnection LLC.

Docket No. EL08-78, Commonwealth Edison Company.

Docket No. EL09-39, First Energy Solutions Corp.

The meetings are open to stakeholders. For more information regarding Commission participation, contact Morris Margolis, Office of Energy Markets Regulation, Federal Energy Regulatory Commission at (202) 502-8611 or morris.margolis@ferc.gov.

Kimberly D. Bose,
Secretary.

[FR Doc. E9-13363 Filed 6-8-09; 8:45 am]

BILLING CODE 6717-01-P